DEPARTMENT OF ENERGY

Federal Energy Regulatory Commission

Combined Notice of Filings #2

Take notice that the Commission received the following electric rate filings:

Docket Numbers: ER10-1484-011

Applicants: Shell Energy North America (U.S.), L.P.

Description: Supplement to March 3, 2015 Notice of Non-Material Change in Status of Shell Energy North America (U.S.), L.P.

Filed Date: 5/13/15.

Accession Number: 20150513-5207.

Comments Due: 5 p.m. ET 6/3/15.

Docket Numbers: ER14-2882-001.

Applicants: The Empire District Electric Company.

Description: Compliance filing per 35: Compliance Filing Revising Formula Rate Protocols to be effective 4/1/2015.

Filed Date: 5/14/15.

Accession Number: 20150514-5150.

Comments Due: 5 p.m. ET 6/4/15.

Docket Numbers: ER15-1713-000.

Applicants: Midcontinent Independent System Operator, Inc.

Description: § 205(d) rate filing per 35.13(a)(2)(iii): 2015-05-14_SA 2786 ITC Midwest-IPL GIA (J233) to be effective 5/15/2015.

Filed Date: 5/14/15.

Accession Number: 20150514-5113.

Comments Due: 5 p.m. ET 6/4/15.

Docket Numbers: ER15-1714-000.

Applicants: Targray Americas Inc.

Description: Initial rate filing per 35.12 New Filing to be effective 7/1/2015.

Filed Date: 5/14/15.

Accession Number: 20150514-5120.

Comments Due: 5 p.m. ET 6/4/15.

Docket Numbers: ER15-1715-000.

Applicants: PJM Interconnection, L.L.C.

Description: § 205(d) rate filing per 35.13(a)(2)(iii): PJM and NCEMC submit Revised Service Agreement No. 3347 to be effective 5/1/2015.

Filed Date: 5/14/15.

Accession Number: 20150514-5133.

Comments Due: 5 p.m. ET 6/4/15.

Docket Numbers: ER15-1716-000.

Applicants: Midcontinent Independent System Operator, Inc.

Description: § 205(d) rate filing per 35.13(a)(2)(iii): 2015-05-14 Revs to App F (Bylaws) to be effective 7/14/2015.

Filed Date: 5/14/15.

Accession Number: 20150514-5136.

Comments Due: 5 p.m. ET 6/4/15.

Docket Numbers: ER15-1717-000.

Applicants: Midcontinent Independent System Operator, Inc., International Transmission Company.

Description: § 205(d) rate filing per 35.13(a)(2)(iii): 2015-05-14_SA 2788 ITC-Wyandotte Interconnection Facilities Agreement to be effective 5/15/2015.

Filed Date: 5/14/15.

Accession Number: 20150514-5140.

Comments Due: 5 p.m. ET 6/4/15.

Take notice that the Commission received the following qualifying facility filings:

Docket Numbers: QF15-701-000.

Applicants: Lockhart BioEnergy, LLC.

Description: Refund Report of Lockhart BioEnergy, LLC.

Filed Date: 5/14/15.

Accession Number: 20150514-5116.

Comments Due: 5 p.m. ET 5/14/15.

Take notice that the Commission received the following electric reliability filings:

Docket Numbers: RR14-6-002.

Applicants: North American Electric Reliability Corp.

Description: Request of the North American Electric Reliability Corporation for Approval of an Expenditure Greater Than $500,000 from Operating Reserves.

Filed Date: 5/14/15.

Accession Number: 20150514-5119.

Comments Due: 5 p.m. ET 5/21/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 14, 2015.
Nathaniel J. Davis, Sr.,
Deputy Secretary.

[FR Doc. 2015-12180 Filed 5-19-15; 8:45 am]

BILLING CODE 6717-01-P